DEPARTMENT OF AGRICULTURE

Submission for OMB Review; Comment Request

May 21, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by June 26, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Specified Commodities Imported into the United States Exempt from Import Requirements, 7 CFR part 944, 980, and 999.

OMB Control Number: 0581-0167.

Summary of Collection: Section 608e of the Agricultural Marketing Agreement Act of 1937(AMAA), as amended (7 U.S.C. 601-674), requires that whenever the Secretary of Agriculture issues grade, size, quality, or maturity regulations under domestic Federal marketing orders, the same or comparable regulations must be used for imported commodities. Import regulations apply only during those periods when domestic marketing order regulations are in effect. No person may import products for processing or other exempt purposes unless an executed Importers Exempt Commodity Form (SC-6) accompanies the shipment. Both the shipper and receiver are required to register in the Compliance and Enforcement Management System (CEMS) to electronically file an SC-6 certificate to notify the Marketing Order and Agreement Division (MOAD) of the exemption activity. MOAD provides information on its website about the commodities imported under section 8e of the Act and directions to the CEMS portal. The Civil Penalty Stipulation Agreement (SC-7) is a “volunteer” form that provides the Agricultural Marketing Service (AMS) with an additional tool to obtain resolution of certain cases without the cost of going to a hearing.

Need and Use of the Information: The importers wishing to import commodities will use the electronic or paper version of form SC-6, “Importer's Exempt Commodity.” The information collected includes information on the imported product (type of product and lot identification), the importer's contact information, the U.S. Customs entry number, inspection date, and intended use (processing, charity, livestock/animal feed). In a situation where a party is alleged to have violated the importation regulations, AMS can use SC-7, “Civil Penalty Stipulation Agreement” form to settle the matter in exchange for the payment of a fine. AMS utilizes the information to ensure that imported goods destined for exempt outlets are given no less favorable treatment than afforded to domestic goods destined for such exempt outlets. If the information is not collected, AMS would have no way of maintaining a safe and legal import program for fruits, vegetables, and specialty crops, as this is the only method of securing compliance with section 8e of the Act.

Description of Respondents: Business or other for-profit; Not-for-profit institutions.

Number of Respondents: 79.

Frequency of Responses: Reporting: On occasion.

Total Burden Hours: 581.

Agricultural Marketing Service

Title: Vegetable and Specialty Crops.

OMB Control Number: 0581-0178.

Summary of Collection: The Agricultural Marketing Agreement Act of 1937 (7 U.S.C. 601-674; Act) was designed to permit regulation of certain agricultural commodities for the purpose of providing orderly marketing conditions in interstate commerce and improving returns to growers. The Orders and Agreements become effective only after public hearings are held in accordance with formal rulemaking procedures specified by the Act.

The vegetable, and specialty crops marketing order programs provide an opportunity for producers in specified production areas to work together to solve marketing problems that cannot be solved individually.

Need and Use of the Information: Various forms are used to collect information necessary to effectively carry out the requirements of the Act and the Order/Agreement. This includes forms covering the selection process for industry members to serve on a marketing order's committee or board and ballots used in referenda to amend or continue marketing orders. Orders and Agreements can authorize the issuance of grade, size, quality, maturity, inspection requirements, pack and container requirements, and pooling and volume regulations. Information collected is used to formulate market policy, track current inventory and statistical data for market development programs, ensure compliance, and verify eligibility, monitor and record grower's information. If this information were not collected, it would eliminate data needed to keep the industry and the Secretary abreast of changes at the State and local level.

Description of Respondents: Business or other for profit; Farms; Individuals or households.

Number of Respondents: 15,481.

Frequency of Responses: Reporting: On occasion, Quarterly, Biennially, Weekly, Semi-annually, Monthly, Annually and Recordkeeping.

Total Burden Hours: 21,655.

Agricultural Marketing Service

Title: Organic Handler Market Promotion Assessment Exemption under Federal Marketing Orders.

OMB Control Number: 0581-0216.

Summary of Collection: Marketing order programs provide an opportunity for producers of fresh fruit, vegetables, and specialty crops in specified production areas to work together to solve marketing problems that cannot be solved individually. Under the Agricultural Marketing Agreement Act of 1937 as amended (7 U.S.C. 601-674), marketing orders may authorize production and marketing research, including paid advertising, to promote various commodities, which is paid for by assessments that are levied on the handlers who are regulated by the Orders.

Section 10004 of the 2014 Farm Bill expanded the organic assessment exemption originally established by the FAIR Act. The 2014 Farm Bill allows all organic handlers to apply for an exemption from assessments on products certified as “organic” or “100 percent organic,” regardless of whether the handler also markets conventional or non-organic products. At the same time, the 2014 Farm bill reduced the per response time to complete the form from 30 minutes to 15 minutes.

Need and Use of the Information: Handlers submit the completed SC-649 form to the appropriate committee, board or council once a year to apply for an assessment exemption to a certain percentage. The information gathered on this form is necessary to assist the committees, boards and councils to determine an applicant's eligibility assessment exemption and to verify compliance.

Description of Respondents: Business or other for-profit; Farms.

Number of Respondents: 210.

Frequency of Responses: Recordkeeping; Reporting: On occasion; Annually.

Total Burden Hours: 53.

Ruth Brown,
Departmental Information Collection Clearance Officer.

[FR Doc. 2020-11339 Filed 5-26-20; 8:45 am]

BILLING CODE 3410-02-P